DEPARTMENT OF LABOR

Employment Standards Administration

Proposed Collection; Comment Request

AGENCY: Employment Standards Adminstration, Labor.

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Work Experience and Career Exploration Programs (WECEP), Regulations, 29 CFR part 570.35a (Fair Labor Standards Act). A copy of the proposed information collection request can be obtained by contacting the office listed below in the addresses section of this Notice.

DATES: Written comments must be submitted to the office listed in the addresses section below on or before December 31, 2002.

ADDRESSES: Ms. Patricia A. Forkel, U.S. Department of Labor, 200 Constitution Ave., NW., Room S-3201, Washington, DC 20210, telephone (202) 693-0339, fax (202) 693-1451, e-mail pforkel@fenix2.dol-esa.gov. Please use only one method of transmission for comments (mail, fax, or e-mail).

SUPPLEMENTARY INFORMATION:

I. Background

Section (3)(1) of the Fair Labor Standards Act (FLSA) establishes a minimum age of 16 for most nonagricultural employment, but allows the employment of 14 and 15 year olds in occupations other than manufacturing and mining if the Secretary of Labor determines such employment is confined to periods which will not interfere with their health and well-being. Subpart C of Regulations, 29 CFR Part 570, Child Labor Regulations, Orders and Statements of Interpretation, sets forth the employment standards for 14 and 15 year olds (Child Labor Reg. 3). Section 570.35a of these regulations permits employment of 14 and 15 year olds under conditions otherwise prohibited by Child Labor Reg. 3 pursuant to a school-supervised and school-administered Work Experience and Career Exploration Program (WECEP) which meets the stated requirements. In order to utilize the WECEP provisions of Child Labor Reg. 3, section 570.35 of the regulations require a State Educational Agency to file an application for approval of a State WECEP program as one not interfering with schooling or with the health and well-being of the minors involved and therefore not constituting oppressive child labor. Section 57.35a(b)(vi) of the regulations requires each student participating in a WECEP to execute a written training agreement signed by the teacher-coordinator, the employer, and the student and signed or otherwise consented to by the student's parent or guardian. This information collection is currently approved for use through February 28, 2003.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

State educational agencies are required to file applications for WECEP which provide exceptions to the child labor regulations issued under the FLSA. State educational agencies are also required to maintain certain records with respect to approved WECEP programs. The Department of Labor seeks the extension of the collection of information in order to carry out its responsibility to determine that regulatory tests for approval of the program have been met, and to document the validity of the WECEP program as one which is structured to provide training for the student. There is no change in the substance or method of collection since the last OMB approval.

Type of Review: Extension.

Agency: Employment Standards Administration.

Title: Work Experience and Career Exploration Programs (WECEP), 29 CRF Part 570.35a.

OMB Number: 1215-0121.

Affected Public: State, Local or Tribal government, Individuals or households.

Total Respondents/Responses: 14,014.

Frequency: Recordkeeping, Biennial reporting.

Average Time per Response:

Reporting, WECEP Application—2 hours.

Reporting, Written Training Agreement—1 hour.

Recordkeeping, WECEP Program Information—1 hour.

Recordkeeping, Filing of WECEP Record and Training Agreement—one-half minute.

Total Burden Hours: 7,145.

Estimated Total Annual Reporting and Recordkeeping

Burden Cost (capital/startup): $0.

Total Burden Cost (operating/maintenance): $2.80.

Comments submitted in response to this notice will be summarized and/or included in the request for Office of Management and Budget approval of the information collection request; they will also become a matter of public record.

Dated: October 25, 2002.
Margaret J. Sherrill
Chief, Branch of Management Review and Internal Control, Division of Financial Management, Office of Management, Administration and Planning, Employment Standards Administration.

[FR Doc. 02-27868 Filed 10-31-02; 8:45 am]

BILLING CODE 4510-27-P